FEDERAL COMMUNICATIONS COMMISSION

47 CFR Part 90

[WT Docket No. 96-18; PR Docket No. 93-253; DA 01-2650]

Interim Licensing Rules for Shared Paging Channels

AGENCY: Federal Communications Commission.

ACTION: Final rule.

SUMMARY: This document concerns the interim licensing rules for lower band shared paging channels and the five 929 MHz shared paging channels (Shared Paging Channels). The intended effect is to remove the interim licensing rules with respect to filing applications for licenses at new sites on the Shared Paging Channels and to allow any qualified entity to submit applications for licenses on these channels at any location.

DATES: Effective November 19, 2001.

ADDRESSES: Federal Communications Commission, 445 Twelfth Street, SW., Washington, DC 20554.

FOR FURTHER INFORMATION CONTACT: Cyndi Thomas, Policy and Rules Branch, Commercial Wireless Division, Wireless Telecommunications Commission, at (202) 418-0620.

SUPPLEMENTARY INFORMATION: This is a summary of the Order (“Order”) in WT Docket No. 96-18 and PR Docket No. 93-253, DA 01-2650, adopted November 13, 2001, and released November 14, 2001. The full text of this decision is available for inspection and copying during regular business hours in the FCC Reference Center, 445 Twelfth Street, SW, Room CY-A257, Washington, DC, and also may be purchased from the Commission's copy contractor, International Transcription Service, (202) 857-3800, 445 Twelfth Street, SW., Room CY-B402, Washington, DC. The complete text is also available under the file name da012650.doc on the Commission's Internet Web site at www.fcc.gov.

Synopsis of Order

Under the Commission's current interim licensing rules for lower band shared paging channels and the five 929 MHz shared paging channels (Shared Paging Channels), incumbent licensees may file applications for new sites at any location. Non-incumbent entities may file applications on these Shared Paging Channels, but only for private, internal-use systems. In its Third Report and Order (“Third R&O”) (64 FR 33762, June 24, 1999) in this proceeding, the Commission directed the Wireless Telecommunications Bureau (Bureau) to remove these interim licensing rules as applied to Shared Paging Channels once warning language about the consequences of failing to meet construction requirements had been added to FCC Form 601, the Application for Wireless Telecommunications Bureau Radio Service Authorization. Having added the language to FCC Form 601, by this Order, the Bureau removes the Commission's interim licensing rules with respect to filing applications for licenses at new sites on the Shared Paging Channels. Any qualified entity may submit applications for licenses on these channels at any location.

I. Interim Licensing Rules and FCC Form 601 Fraud-Warning Language

In early 1996, the Commission suspended acceptance of new applications for paging channels during the pendency of its rulemaking proceeding to establish geographic area licensing and competitive bidding rules for paging services. Mindful, however, that an across-the-board freeze on applications might impair the ability of licensees to maintain adequate services for their customers, the Commission established interim licensing rules initially permitting non-nationwide incumbent licensees to add sites to existing systems or modify existing sites, provided the additions or modifications did not expand the composite interference contour of the licensee's existing system.

Later that same year, in its First Report and Order (“First R&O”) (61 FR 21380, May 10, 1996), the Commission affirmed its decision to maintain the freeze on paging applications and to retain the interim licensing rules. The Commission, in large part, based its decision to maintain the freeze and, specifically, the limitation on incumbent applications under the interim licensing rules on its concern that lifting the freeze or allowing non-incumbents to file applications on either exclusive frequencies or the Shared Paging Channels would lead to a flood of speculative applications and increase opportunities for application mills to promote fraudulent investment schemes. The Commission, however, did relax the interim licensing rules to allow non-nationwide incumbent licensees on exclusive frequencies or the Shared Paging Channels to file applications for new sites outside the licensee's composite interference contour. Proposed sites that would expand a service area contour had to be located within forty (40) miles of a site for which the licensee had filed an application. Under this 40-mile requirement, the application for the original site must have been filed as of September 30, 1995. The Commission further exempted Special Emergency Radio Service providers from the paging freeze, allowing those providers to file applications on the Shared Paging Channels.

In 1997, in the Second Report and Order and Further Notice of Proposed Rulemaking (“Second R&O”) (62 FR 11616, March 12, 1997) and (“FNPRM”) (62 FR 11638, March 12, 1997), the Commission concluded that the Shared Paging Channels should not be subject to geographic area licensing or competitive bidding procedures. Still concerned about consumer fraud and license application speculation on those channels, however, the Commission sought comment on how to change licensing and frequency coordination procedures to resolve the problems of consumer fraud and speculative applications. Pending resolution of these issues, and out of caution, the Commission required new applications filed for the Shared Paging Channels to continue to be processed under the interim licensing rules. The Commission, however, again relaxed the interim licensing rules by eliminating the 40-mile requirement and allowing incumbents to file for new sites on the Shared Paging Channels at any location. The Commission also affirmed its decision to allow new applicants to file applications for private, internal-use systems. While the interim licensing rules as developed in Commission decisions apply to all of the Shared Paging Channels, the Second R&O specifically revised § 90.494(g) of the Commission's rules to reflect the interim licensing rules for purposes of the five 929 MHz shared paging channels.

In the Third R&O, the Commission considered the many comments filed on the issue of application fraud. In response, it determined that adding language to FCC Form 601 warning applicants that failure of a licensee to meet construction or coverage requirements would result in termination of the license would be generally helpful to applicants in all services and might also help deter fraud. The Commission directed the Bureau to remove the interim licensing rules for the Shared Paging Channels, including § 90.494(g) of its rules, once the warning language was added to FCC Form 601.

II. Lifting the Freeze on Applications for Licenses on the Shared Paging Channels

As of November 9, 2001, the following warning language has been added near the signature block on the FCC Form 601 application in Universal Licensing System (ULS), as well as the FCC Form 601 available through Fax-on-Demand and the Bureau's website: “Upon grant of this license application, the licensee may be subject to certain construction or coverage requirements. Failure to meet the construction or coverage requirements will result in termination of the license. Consult appropriate FCC regulations to determine the construction or coverage requirements that apply to the type of license requested in this application.”

The Bureau has initiated the process for printing new paper copies of FCC Form 601 that contain the warning language, but those copies will not be available to the public for several weeks. As already noted, where paper copies of FCC Form 601 may be used or are needed, updated applications containing the warning language can be obtained from Fax-on-Demand (202-418-2830) or are currently available for downloading from http://www.fcc.gov/wtb/csinfo/orderfrm.html. The Bureau also notes that applications for new licenses on Shared Paging Channels must be filed through certified land mobile frequency coordinators. The Bureau has provided the updated version of FCC Form 601 to each coordinator and has encouraged them to point out the new warning language to applicants for the Shared Paging Channels.

Having added the warning language to FCC Form 601, the Bureau eliminates the interim licensing rules that have applied to lower band shared paging channels and the five 929 MHz shared paging channels. Accordingly, pursuant to the Third R&O, the Bureau removes the interim licensing rules developed through Commission decisions as well as § 90.494(g) of the Commission's rules as applied to the Shared Paging Channels. Any qualified entity may file an application for a license on the Shared Paging Channels for new sites at any location. Applications for new sites filed on these Shared Paging Channels continue to require frequency coordination prior to filing the applications with the Commission.

Procedural Matters and Ordering Clauses

Pursuant to §§ 4(i), 303(r), and 332 of the Communications Act of 1934, as amended, 47 U.S.C. 154(i), 303(r), 332, and the Third R&O, the Commission's interim licensing rules as applied to the Shared Paging Channels are eliminated and § 90.494(g) of the Commission's rules, 47 CFR 90.494(g), is removed as set forth in the Order.

This action is taken pursuant to the Third R&O and the authority delegated in § 0.331 of the Commission's rules, 47 CFR 0.331.

The provisions of this Order and the Commission's rules, as amended in the Order, shall become effective November 19, 2001 in accordance with § 1.103 of the Commission's rules, 47 CFR 1.103.

List of Subjects in 47 CFR Part 90

Paging, Radio.

Federal Communications Commission.
Katherine M. Harris,
Deputy Chief, Commercial Wireless Division, Wireless Telecommunications Bureau.

Rule Changes

For the reasons set forth in the preamble, part 90 of Chapter I of title 47 of the Code of Federal Regulations is amended as follows:

PART 90-PRIVATE LAND MOBILE RADIO SERVICES

1. The authority citation for part 90 continues to read as follows:

Authority: Section 4(i), 11, 303(g), 303(r), and 332(c)(7) of the Communications Act of 1934, as amended, 47 U.S.C. 154(i), 161, 303(g), 303(r), 332(c)(7).

§ 90.494 [Amended]

2. Section 90.494 is amended by removing paragraph (g).

[FR Doc. 01-28883 Filed 11-16-01; 8:45 am]

BILLING CODE 6712-01-P